ENVIRONMENTAL PROTECTION AGENCY

[EPA-HQ-OAR-2013-0402; FRL-9901-89-OEI]

Information Collection Request Submitted to OMB for Review and Approval; Comment Request; Mobile Air Conditioner Retrofitting Program (Renewal)

AGENCY: Environmental Protection Agency (EPA).

ACTION: Notice.

SUMMARY: The Environmental Protection Agency has submitted an information collection request (ICR), Mobile Air Conditioner Retrofitting Program (EPA ICR No. 1774.06, OMB Control No. 2060-0450), to the Office of Management and Budget (OMB) for review and approval in accordance with the Paperwork Reduction Act (44 U.S.C. 3501 et seq.). This is a proposed extension of the ICR, which is currently approved through October 31, 2013. Public comments were previously requested via the Federal Register (78 FR 37220) on June 20, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before November 22, 2013.

ADDRESSES: Submit your comments, referencing Docket ID No. EPA-HQ-OAR-2013-0402, online using www.regulations.gov (our preferred method), by email to a-and-r-docket@epa.gov, or by mail to: EPA Docket Center, Environmental Protection Agency, Mail Code 28221T, 1200 Pennsylvania Ave., NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Rebecca von dem Hagen, Environmental Protection Agency, Stratospheric Protection Division, Office of Atmospheric Programs, MC 6205J, Environmental Protection Agency, 1200 Pennsylvania Ave. NW., Washington, DC 20460; telephone number: (202) 343-9445; fax number: (202) 343-2362; email address: vondemhagen.rebecca@epa.gov.

SUPPLEMENTARY INFORMATION: Supporting documents, which explain in detail the information that the EPA will be collecting, are available in the public docket for this ICR. The docket can be viewed online at www.regulations.gov or in person at the EPA Docket Center, WJC Federal Building West, Room 3334, 1301 Constitution Ave. NW., Washington, DC. The telephone number for the Docket Center is 202-566-1744. For further information about EPA's public docket, visit http://www.epa.gov/dockets.

Abstract: EPA's Significant New Alternatives Policy (SNAP) program implements Section 612 of the 1990 Clean Air Act (CAA) Amendments, which authorized the Agency to establish regulatory requirements to ensure that ozone-depleting substances (ODS) are replaced by alternatives that reduce overall risks to human health and the environment, and to promote an expedited transition to safe substitutes. To promote this transition, CAA specified that EPA establish an information clearinghouse of available alternatives, and coordinate with other Federal agencies and the public on research, procurement practices, and information and technology transfers.

Since the program's inception in 1994, SNAP has reviewed over 400 new chemicals and alternative manufacturing processes for a wide range of consumer, industrial, space exploration, and national security applications. Roughly 90% of alternatives submitted to EPA for review have been listed as acceptable for a specific use, typically with some condition or limit to minimize risks to human health and the environment.

Regulations promulgated under SNAP require that Motor Vehicle Air Conditioners (MVACs) retrofitted to use a SNAP substitute refrigerant include basic information on a label to be affixed to the air conditioner. The label includes the name of the substitute refrigerant, when and by whom the retrofit was performed, environmental and safety information about the substitute refrigerant, and other information. This information is needed so that subsequent technicians working on the MVAC system will be able to service the equipment properly, decreasing the likelihood of significant refrigerant cross-contamination and potential failure of air conditioning systems and recovery/recycling equipment.

Form Numbers: None.

Respondents/affected entities: New and used car dealers, gas service stations, top and body repair shops, general automotive repair shops, automotive repair shops not elsewhere classified, including air conditioning and radiator specialty shops.

Respondent's obligation to respond: Mandatory under 40 CFR part 82, subpart G.

Estimated number of respondents: 294 (total).

Frequency of response: Once per retrofit of a motor vehicle air conditioner.

Total estimated burden: 8 hours (per year). Burden is defined at 5 CFR 1320.3(b).

Total estimated cost: $570 (per year), which includes $10 (per year) annualized capital or operation & maintenance costs.

Changes in Estimates: There is decrease of 1,492 hours in the total estimated respondent burden compared with the ICR currently approved by OMB (per year). This decrease is based on the decline of CFC-12 MVACs in service today. EPA estimated that the total percent of CFC-12 MVACs retrofitted in 2003 was 1.5%, which equals an estimated 500,000 CFC-12 MVACs retrofitted to R-134a. The number of MVACs originally designed to use CFC-12 as well as the number of those retrofitted to R-134a has been decreasing every year and EPA estimates a continued reduction in the number of CFC-12 MVACs retrofits will occur during the next three years. EPA estimates that currently, in 2013, there are 330,000 MVACs originally designed to use CFC-12 operating in the U.S. EPA estimates that in 2014, 2015 and 2016 the number of cars originally designed to use CFC-12 will decrease to 170,000, 84,000 and 40,000, respectively. Of these, EPA estimates that 0.1% will be retrofitted annually to use alternative refrigerants between October 2013 and September 2016. Therefore, EPA estimates that in 2014, 2015 and 2016 the numbers of MVACs to be retrofitted are 170, 84 and 40, respectively; resulting in a total of 294 MVAC retrofits over the three years of this ICR. These reductions are due to the decrease of CFC-12 MVACs available on the road for retrofitting.

John Moses,
Director, Collection Strategies Division.

[FR Doc. 2013-24790 Filed 10-22-13; 8:45 am]

BILLING CODE 6560-50-P